DEPARTMENT OF ENERGY

Federal Energy Regulatory Commission

[Project No. 15104-000]

Premium Energy Holdings, LLC; Notice of Preliminary Permit Application Accepted for Filing and Soliciting Comments, Motions To Intervene, and Competing Applications

On February 25, 2021, the Premium Energy Holdings LLC, filed an application for a preliminary permit, pursuant to section 4(f) of the Federal Power Act (FPA), proposing to study the feasibility of Tehachapi Pumped Storage Project to be located about 6 miles east of Lebec, in Kern County and Los Angeles County, California. The sole purpose of a preliminary permit, if issued, is to grant the permit holder priority to file a license application during the permit term. A preliminary permit does not authorize the permit holder to perform any land-disturbing activities or otherwise enter upon lands or waters owned by others without the owners' express permission.

The proposed project includes three alternative project configurations (alternatives A, B, and C). The proposed alternative A would consist of: (1) A new upper reservoir using National Cement Company's existing quarry (Quarry Reservoir) with a surface area of 59 acres, and a total storage capacity of 14,610 acre-feet at a normal maximum operating elevation of 5,100 feet above average mean sea level (msl); (2) a new 5,350-foot-long, 255-foot-high earthen dam impounding a new lower reservoir (Border Reservoir), with a surface area of 138-acres, and a total storage capacity of 21,600 acre-feet at a normal maximum elevation of 3,920 feet msl; and (3) a new 8,448-foot-long, 31-foot-diameter pressurized tunnel penstock connecting the Quarry and Border Reservoirs, with a hydraulic head of 1,180 feet. The proposed alternative B would consist of: (1) A new 2,997-foot-long, 300-foot-high earthen dam impounding a new upper reservoir (Edison Reservoir) with a surface area of 62 acres, and a total storage capacity of 18,000 acre-feet at a normal maximum elevation of 4,500 feet msl; (2) a new lower reservoir (Teson Reservoir) with a surface area of 63 acres, and a total storage capacity of 21,800 acre-feet at a normal maximum elevation of 3,530 feet msl; and (3) a new 7,920-foot-long, 33-foot-diameter pressurized tunnel penstock connecting the Edison and Teson Reservoirs, with a hydraulic head of 1,000 feet. The proposed alternative C would consist of: (1) A new 3,840-foot-long, 300-foot-high earthen dam impounding a new upper reservoir (Crane Reservoir) with a surface area of 156 acres, and a total storage capacity of 23,950 acre-feet at a normal maximum elevation of 4,500 feet msl; (2) a new 5,485-foot-long, 195-foot-high earthen dam impounding a new lower reservoir (Oso Reservoir) with a surface area of 314-acres, and a total storage capacity of 21,690 acre-feet at a normal maximum elevation of 3,530 feet msl; and (3) a new 19,536-foot-long, 34-foot-diameter pressurized tunnel penstock connecting the Crane and Oso Reservoirs, with a hydraulic head of 970 feet. Each of the alternative configurations would also include a new powerhouse and switchyard located adjacent to the lower reservoir, and a transmission line connecting the switchyard to either Los Angeles Department of Water and Power's (LADWP) Rosamond Switching Station or Southern California Edison Company's (SCE) Bailey Substation. The powerhouse would contain five turbine-generator units with a total rated capacity of 1,000 megawatts and the estimated annual generation at the project would be 3,500 gigawatt-hours.

Applicant Contact: Mr. Victor M. Rojas, Managing Director, Premium Energy Holdings LLC. 355 South Lemon Ave., Suite A, Walnut, CA 91789, victor.rojas@pehllc.net.

FERC Contact: Ousmane Sidibe; Ousmane.sidibe@ferc.gov, (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15104-000.

More information about this project, including a copy of the application, can be viewed or printed on the “eLibrary” link of Commission's website at https://www.ferc.gov/ferc-online/elibrary/overview. Enter the docket number (P-15104) in the docket number field to access the document. For assistance, contact FERC Online Support.

Dated: August 24, 2021.
Kimberly D. Bose,
Secretary.

[FR Doc. 2021-18614 Filed 8-27-21; 8:45 am]

BILLING CODE 6717-01-P